DEPARTMENT OF JUSTICE

Antitrust Division

Notice Pursuant to the National Cooperative Research and Production Act of 1993—The Telecommunications Industry Association

Notice is hereby given that, on August 12, 2004, pursuant to section 6(a) of the National Cooperative Research and Production Act of 1993, 15 U.S.C. 4301 et seq. (“the Act”), The Telecommunications Industry Association (“TIA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: The Telecommunications Industry Association, Arlington, VA. The nature and scope of TIA's standards development activities are: TIA is accredited by the American National Standards Institute (“ANSI”) to develop voluntary industry standards for a wide variety of telecommunications products. TIA's Standards and Technology Department is composed of five divisions which sponsor more than 70 standards-setting formulating groups in Fiber Optics, User Premises Equipment, Network Equipment, Wireless Communications and Satellite Communications.

Dorothy B. Fountain,
Deputy Director of Operations, Antitrust Division.

[FR Doc. 04-23536 Filed 10-20-04; 8:45 am]

BILLING CODE 4410-11-M